DEPARTMENT OF ENERGY

Solicitation Number DE-PS36-02GO92003; Hydrogen Generation From Electrolysis

AGENCY: Golden Field Office, Department of Energy.

ACTION: Issuance of solicitation for financial assistance applications.

SUMMARY: The U.S. Department of Energy (DOE) is announcing its intention to seek Financial Assistance Applications for the development and demonstration of an integrated renewable hydrogen generation system that will electrolyze water and produce hydrogen at 5000 psi pressure at a projected cost of less than $600/kW for a 10,000 scfpd unit and $300/kW for a 100,000 scfpd unit (by the year 2005, when produced in assumed quantities of 10,000 units).

DATES: Issuance of the Solicitation was April 10, 2002.

ADDRESSES: To obtain a copy of the solicitation, interested parties should access the DOE Golden Field Office Home Page at http://www.golden.doe.gov/businessopportunities.html, click on “Solicitations”, and then access the solicitation number identified above. The Golden Home Page will provide a link to the Solicitation in the Industry Interactive Procurement System (IIPS) web site and provide instructions on using IIPS. The Solicitation can also be obtained directly through IIPS at http://e-center.doe.gov by browsing opportunities by Program Office for those solicitations issued by the Golden Field Office. DOE will not issue paper copies of the solicitation.

FOR FURTHER INFORMATION CONTACT: Andrea K. Lucero, Contract Specialist, via facsimile to (303) 275-4788, or electronically at Andrea_Lucero@nrel.gov. Responses to questions will be made by amendment to the Solicitation and posted on the IIPS Web site.

SUPPLEMENTARY INFORMATION: The Office of Power Technologies of the DOE Office of Energy Efficiency and Renewable Energy is soliciting Financial Assistance Applications for the development and demonstration of an integrated renewable hydrogen generation system that will electrolyze water to produce hydrogen. Through the award of Cooperative Agreements, DOE intends to provide financial support to assist in the development of such systems under provisions of the Hydrogen Future Act of 1996, Public Law 104-271.

The DOE Hydrogen Program works with U.S. industry to develop hydrogen technologies that will improve our nation's energy security, reduce greenhouse gas emissions, and create business opportunities for U.S. industry. The Hydrogen Future Act requires the Department to ensure that research and development activities bring hydrogen systems into the marketplace. Using renewable energy sources, the DOE Hydrogen Program has an interim goal to generate hydrogen with electrolyzers at a cost of less than $600 per kW where each unit would be capable of producing 10,000 standard cubic feet per day (scfpd) and $300 per kW for 100,000 scfpd units (by 2005, when produced in assumed quantities of 10,000 units). The system should be capable of delivering hydrogen at 5,000 psi to a vehicle. The work needed to reduce the costs of existing technology includes cost reductions in electrochemical technologies and other efficiency improvements.

Awards under this solicitation will be Cooperative Agreements with a term of up to three years. The required term will be specified by the Applicant, depending on the needs of the proposed project. Awards will be for the complete project period specified by the Applicant, with incremental funding provided by DOE during each year, as available. Subject to availability, the total DOE funding anticipated under this Solicitation will be approximately $3,000,000. DOE anticipates selecting two Applications for negotiation toward an award. Thus, the anticipated available funding is approximately $500,000 per award per year, for up to three years.

Eligibility for an award is not restricted to any particular category of Applicant. However, a minimum Cost Share of 50% of Total Project Costs is required in order to be considered for an award under this Solicitation.

Although this Solicitation is being issued in Fiscal Year (FY) 2002, potential awards will not be considered until early in FY 2003 (FY 2003 begins October 1, 2002). The possibility for awards to be made will depend on the availability of funds in the FY 2003 congressional appropriations. DOE reserves the right to make no awards under this Solicitation or to reduce the requested DOE funding commitment on any potential award through negotiated reductions in work scope.

Issued in Golden, Colorado, on April 10, 2002.
Jerry L. Zimmer,
Director, Office of Acquisition and Financial Assistance.

[FR Doc. 02-10019 Filed 4-23-02; 8:45 am]

BILLING CODE 6450-01-P